DEPARTMENT OF HEALTH AND HUMAN SERVICES

Centers for Disease Control and Prevention

Notice of Award of a Sole Source Cooperative Agreement To Fund the Pan-American Health Organization (PAHO)

AGENCY: Centers for Disease Control and Prevention (CDC), Department of Health and Human Services (HHS).

ACTION: Notice.

SUMMARY: The Centers for Disease Control and Prevention (CDC), located within the Department of Health and Human Services (HHS), announces the award of approximately $8,000,000, with an expected total funding of approximately $50,000,000 over a 5-year period, to the Pan-American Health Organization (PAHO). The award will support strengthening immunization systems; ensuring polio free certification status; maintaining measles, rubella, and neonatal tetanus elimination; and prevention of other vaccine-preventable diseases (VPDs) in the Americas region. This award builds upon and continues work previously supported by PAHO through a cooperative agreement under CDC-RFA-GH-1901, “Cooperative Agreement with the Pan American Health Organization: Protecting and Strengthening Immunization Programs in the Americas.”

DATES: The period for this award will be May 1, 2024, through April 30, 2029.

FOR FURTHER INFORMATION CONTACT: Mary A. Mulholland, (Global Health Center, Centers for Disease Control and Prevention, 1600 Clifton Rd. NE, Atlanta, GA 30333, Telephone: 404-553-7371, Email: mmulholland@cdc.gov.

SUPPLEMENTARY INFORMATION: The sole source award will establish a cooperative agreement that will build upon the achievements of past cooperative agreements with PAHO, while forging new collaborations to strengthen the Expanded Program on Immunization in the Americas as a whole. Supported activities will includes development of standards for national immunization programs, development of national immunization program capacity to prevent, detect and respond to VPDs, and maintain the status of polio eradication; rubella, measles, and neonatal tetanus elimination; and support the elimination of Hepatitis B. To achieve these strategies, the recipient will provide direct technical cooperation to Member States through both its regional headquarters and country offices.

PAHO is in a unique position to conduct this work, as it functions as the lead specialized health agency within the inter-American system and operates as the regional office for the Americas on behalf of the World Health Organization (WHO), the UN's specialized health agency, with headquarters in Washington DC. Through their presence in the 35 member countries in the region, PAHO promotes technical cooperation between countries and works in partnership with ministries of health and other government agencies, civil society organizations, other international agencies, universities, social security agencies, community groups, and other partners. During nearly three decades of partnership with CDC's Global Immunization Division, PAHO has made outstanding progress towards strengthening routine immunization and surveillance systems for polio, measles, rubella, and congenital rubella syndrome; including maintaining the revolving fund for the bulk purchase of vaccines for member countries; developing a strong platform for strengthening surveillance of other VPDs; and maintaining its polio-free certification since 1994, as well as verification of regional rubella and CRS elimination since 2015 and regional measles elimination since 2016.

Summary of the award:

Recipient: Pan-American Health Organization (PAHO).

Purpose of the Award: The purpose of this award is to support strengthening immunization systems; ensuring polio free certification status; maintaining measles, rubella, and neonatal tetanus elimination; and prevention of other VPDs in the Americas region, in alignment with the US Government endorsed Global Polio Eradication Initiative, the Immunization Agenda 2030 and CDC's Global Immunization Strategic Framework 2021-2030. Additionally, this NOFO supports CDC's Global Health Strategy which focuses on protecting and improving the health, safety, security, and well-being of Americans by reducing morbidity and mortality worldwide; improving capabilities to prepare for and respond to infectious diseases and other emerging health threats and public health emergencies; and maximizing potential of CDC's global programs to achieve public health impact.

Amount of Award: $8,000,000 in Federal fiscal year (FFY) 2024 funds, with a total estimated $ 50,000,000 for the 5-year period of performance, subject to availability of funds. Funding amounts for years 2-5 will be set at continuation.

Authority: This program is authorized under Section 307 of the PHS Act (42 U.S.C 242); section 317(k)(1) and (2) of the PHS Act (42 U.S.C. 247b(k)(1) and (2).

Period of Performance: May 1, 2024, through April 30, 2029.

Dated: January 24, 2024.
Jamie Legier,
Acting Director, Office of Grants Services, Acting Chief Grants Management Officer, Centers for Disease Control and Prevention.

[FR Doc. 2024-02507 Filed 2-6-24; 8:45 am]

BILLING CODE 4163-18-P